INTERNATIONAL TRADE COMMISSION

[Investigation No. 337-TA-842]

Certain Cameras and Mobile Devices, Related Software and Firmware, and Components Thereof and Products Containing the Same Notice of Commission Determination Not To Review an Initial Determination Terminating the Investigation

AGENCY: U.S. International Trade Commission.

ACTION: Notice.

SUMMARY: Notice is hereby given that the U.S. International Trade Commission has determined not to review an initial determination (“ID”) (Order No. 11) terminating the above-captioned investigation.

FOR FURTHER INFORMATION CONTACT: James A. Worth, Office of the General Counsel, U.S. International Trade Commission, 500 E Street SW., Washington, DC 20436, telephone (202) 205-3065. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on May 2, 2012, based upon a complaint filed on behalf of HumanEyes Technologies, Ltd. of Jerusalem, Israel on March 28, 2012, and supplemented on April 18, 2012. 77 FR 26041 (May 2, 2012). The complaint alleged violations of section 337 of the Tariff Act of 1930 (19 U.S.C. 1337) in the sale for importation, importation, or sale after importation of certain cameras and mobile devices, related software and firmware, and components thereof and products containing the same that infringe of one or more of claims 1-3 and 22 of U.S. Patent No. 6,665,003 and claims 1-3, 10,20, 27-29, 36, and 37 of U.S. Patent No. 7,477,284. The notice of investigation named as respondents Sony Corporation of Tokyo, Japan; Sony Corporation of America of New York, New York; Sony Electronics Inc. of San Diego, California; Sony Mobile Communications AB of London, United Kingdom; and Sony Mobile Communications (USA) Inc. of Atlanta, Georgia.

On September 20, 2012, complainant HumanEyes Technologies filed an unopposed motion to terminate the investigation pursuant to Commission rule 210.21(a), 19 CFR 210.21(a), based on withdrawal of the complaint and supplemental complaint. On September 25, 2012, the Commission investigative attorney filed a response in support of the motion. On September 26, 2012, the administrative law judge issued the subject ID, granting the motion. No petitions for review were filed.

After considering the ID and the relevant portions of the record, the Commission has determined not to review the ID.

This action is taken under the authority of section 337 of the Tariff Act of 1930, as amended (19 U.S.C. 1337), and Part 210 of the Commission's Rules of Practice and Procedure (19 CFR part 210).

By order of the Commission.
Issued: October 23, 2012.
Lisa R. Barton,
Acting Secretary to the Commission.

[FR Doc. 2012-26408 Filed 10-25-12; 8:45 am]

BILLING CODE 7020-02-P